DEPARTMENT OF INTERIOR

Bureau of Land Management

[OR-030-00-1020-XU: GPO-0198]

Notice of Meeting of John Day/Snake Resource Advisory Council

AGENCY: Vale District, Bureau of Land Management, Interior.

ACTION: Meeting of John Day/Snake Resource Advisory Council: Enterprise, Oregon, May 23 & 24, 2000.

SUMMARY: On May 23, 2000 a field trip to view grazing and weed issues for the John Day/Snake Resource Advisory Council will begin at the Wallowa-Whitman National Forest office, 88401 Hwy 82, Enterprise, Oregon at 8:00 a.m. The meeting will continue on May 24, 2000 at the Wallowa-Whitman National Forest office, 88401 Hwy 82, Enterprise, Oregon from 8:00 a.m. to 3:00 p.m. The meeting is open to the public. Public comments will be received at 10:00 a.m. on May 24, 2000. The following topics will be discussed by the council on May 24: Hells Canyon Subgroup recommendation on the Hells Canyon Comprehensive Management Plan, John Day River Subgroup update, Blue Mtn. Demo discussion, and a 15 minute round table for general issues.

FOR FURTHER INFORMATION CONTACT: Juan Palma, Bureau of Land Management, Vale District Office, 100 Oregon Street, Vale, Oregon 97918, Telephone (541) 473-3144.

Juan Palma,
District Manager.

[FR Doc. 00-11043 Filed 5-2-00; 8:45 am]

BILLING CODE 4310-33-M